DEPARTMENT OF HEALTH AND HUMAN SERVICES

[ATSDR-278]

Agency for Toxic Substances and Disease Registry Availability of Final Toxicological Profile

AGENCY: Agency for Toxic Substances and Disease Registry (ATSDR), Department of Health and Human Services (HHS).

ACTION: Notice of availability.

SUMMARY: This notice announces the availability of the final Toxicological Profile for Uranium prepared by ATSDR.

FOR FURTHER INFORMATION CONTACT: Ms. Delores Grant, Division of Toxicology and Human Health Sciences, Agency for Toxic Substances and Disease Registry, Mailstop F-57, 1600 Clifton Road NE., Atlanta, Georgia 30333; telephone number (800) 232-4636 or (770) 488-3351. Electronic access to this document is available at the ATSDR Web site: www.atsdr.cdc.gov/toxprofiles/index.asp.

SUPPLEMENTARY INFORMATION: The Superfund Amendments and Reauthorization Act of 1986 (SARA) (42 U.S.C. 9601 et seq.) amended the Comprehensive Environmental Response, Compensation, and Liability Act of 1980 (CERCLA or Superfund) (42 U.S.C. 9601 et seq.) by establishing certain requirements for ATSDR and the U.S. Environmental Protection Agency (EPA) with regard to hazardous substances that are most commonly found at facilities on the CERCLA National Priorities List (NPL). Among these statutory requirements is a mandate for the Administrator of ATSDR to prepare toxicological profiles for each substance included on the priority list of hazardous substances (also called the Substance Priority List). This list identifies 275 hazardous substances that ATSDR (in cooperation with EPA) has determined pose the most significant potential threat to human health. The availability of the revised list of the 275 priority substances was announced in the Federal Register on November 3rd, 2011 (76 FR 68193) and is available at www.atsdr.cdc.gov/spl. In addition, ATSDR has the authority to prepare toxicological profiles for substances not found at sites on the National Priorities List, in an effort to “* * * establish and maintain inventory of literature, research, and studies on the health effects of toxic substances” under CERCLA Section 104(i)(1)(B), to respond to requests for consultation under section 104(i)(4), and as otherwise necessary to support the site-specific response actions conducted by ATSDR.

Notice of the availability of this toxicological profile in draft form for public review and comment was published in the Federal Register on April 27, 2011 (76 FR 23600), with notice of a 90-day public comment period, starting from the actual release date. Following the close of the comment period, chemical-specific comments were addressed, and, where appropriate, changes were incorporated into the profile. The public comments and other data submitted in response to the Federal Register notices bear the docket control number CDC-2001-005. This material is available for public inspection at ATSDR.

Availability

This notice announces the availability of the Toxicological Profile for Uranium prepared by ATSDR. The Toxicological Profile for Uranium will be made available to the public on or about March 5, 2013 at the ATSDR Web site: www.atsdr.cdc.gov/toxprofiles/index.asp.

This final profile is also available through the U.S. Department of Commerce, National Technical Information Service (NTIS), 5285 Port Royal Road, Springfield, Virginia 22161, telephone 1-800-553-6847 for a fee as determined by NTIS.

Dated: March 13, 2013.
Ken Rose,
Director, Office of Policy, Planning and Evaluation, National Center for Environmental Health/Agency for Toxic Substances and Disease Registry.

[FR Doc. 2013-06377 Filed 3-19-13; 8:45 am]

BILLING CODE 4163-70-P